DEPARTMENT OF COMMERCE

Bureau of Industry and Security

Submission for OMB Review; Comment Request

The Department of Commerce will submit to the Office of Management and Budget (OMB) for clearance the following proposal for collection of information under the provisions of the Paperwork Reduction Act (44 U.S.C. Chapter 35).

Agency: Bureau of Industry and Security.

Title: Chemical Weapons Convention Declaration and Report Handbook and Forms

Form Number(s): Form 1-1, Form 1-2, Form 1-2A, Form 1-2B.

OMB Control Number: 0694-0091.

Type of Review: Regular submission.

Estimated Total Annual Burden Hours: 14,813.

Estimated Number of Respondents: 779.

Estimated Time per Response: 10 minutes to 12 hours.

Needs and Uses: The Chemical Weapons Convention Implementation Act of 1998 and Commerce Chemical Weapons Convention Regulations (CWCR) specify the rights, responsibilities and obligations for submission of declarations and reports and inspections of certain chemical facilities. This information is required for the United States to comply with the Chemical Weapons Convention (CWC), an international arms control treaty.

Affected Public: Business or other for-profit organizations.

Frequency: On Occasion

Respondent's Obligation: Mandatory

This information collection request may be viewed at reginfo.gov. Follow the instructions to view Department of Commerce collections currently under review by OMB.

Written comments and recommendations for the proposed information collection should be sent within 30 days of publication of this notice to OIRA_Submission@omb.eop.gov.

Sheleen Dumas,
Departmental Lead PRA Officer, Office of the Chief Information Officer, Commerce Department.

[FR Doc. 2019-07408 Filed 4-12-19; 8:45 am]

BILLING CODE 3510-33-P